DEPARTMENT OF COMMERCE

National Oceanic and Atmospheric Administration

[I.D. 042501C]

Marine Mammals; File No. 995-1608

AGENCY: National Marine Fisheries Service (NMFS), National Oceanic and Atmospheric Administration (NOAA), Commerce.

ACTION: Issuance of permit.

SUMMARY: Notice is hereby given that Mr. Thomas F. Norris, Science Applications International Corp., 3990 Old Town Avenue, Suite 105A, San Diego, California 92110, has been issued a permit to take gray (Eschrichtius robustus), minke (Balaenoptera acutorostrata), and Bryde’s (Balaenoptera edeni) whales for purposes of scientific research.

ADDRESSES: The permit and related documents are available for review upon written request or by appointment in the following office(s):

Permits and Documentation Division, Office of Protected Resources, NMFS, 1315 East-West Highway, Room 13705, Silver Spring, MD 20910; phone (301)713-2289; fax (301) 713-0376;

Northwest Region, NMFS, 7600 Sand Point Way NE, BIN C15700, Bldg. 1, Seattle, WA 98115-0700; phone (206) 526-6150; fax (206) 526-6426;

Southwest Region, NMFS, 501 West Ocean Blvd., Suite 4200, Long Beach, CA 90802-4213; phone (562) 980-4001; fax (562) 980-4018; and

Protected Species Coordinator, Pacific Area Office, NMFS, 1601 Kapiolani Blvd., Rm, 1110, Honolulu, HI 96814-4700; phone (808) 973-2935; fax (808) 973-2941.

FOR FURTHER INFORMATION CONTACT: Tammy Adams or Ruth Johnson, (301)713-2289.

SUPPLEMENTARY INFORMATION: On December 21, 2000, notice was published in the Federal Register (65 FR 80420) that a request for a scientific research permit to take gray (Eschrichtius robustus), minke (Balaenoptera acutorostrata), Bryde’s (Balaenoptera edeni), blue (Balaenoptera musculus), fin (Balaenoptera physalus), and humpback (Megaptera novaengliae) whales had been submitted by the above-named individual. The requested permit has been issued for the three non-endangered species of whale (gray, minke, and Bryde’s) only, under the authority of the Marine Mammal Protection Act of 1972, as amended (16 U.S.C. 1361 et seq.), and the Regulations Governing the Taking and Importing of Marine Mammals (50 CFR part 216). The request for a permit related to the three endangered species of whale (blue, fin, and humpback) is deferred pending receipt of a report of the effects of the tags on the non-endangered species.

Dated: May 4, 2001.
Ann D. Terbush,
Chief, Permits and Documentation Division, Office of Protected Resources, National Marine Fisheries Service.

[FR Doc. 01-11840 Filed 5-9-01; 8:45 am]

BILLING CODE 3510-22-S